FEDERAL COMMUNICATIONS COMMISSION

47 CFR Part 73

[MB Docket No. 21-151; RM-11898; DA 21-767; FR ID 36877]

Television Broadcasting Services Eugene, Oregon

AGENCY: Federal Communications Commission.

ACTION: Final rule.

SUMMARY: On April 14, 2021, the Media Bureau, Video Division (Bureau) issued a Notice of Proposed Rulemaking (NPRM) in response to a petition for rulemaking filed by Sinclair Eugene Licensee, LLC (Petitioner), the licensee of KVAL-TV, channel 13 (CBS), Eugene, Oregon, requesting the substitution of channel 28 for channel 13 at Eugene in the DTV Table of Allotments. For the reasons set forth in the Report and Order referenced below, the Bureau amends FCC regulations to substitute channel 28 for channel 13 at Eugene.

DATES: Effective July 23, 2021.

FOR FURTHER INFORMATION CONTACT: Andrew Manley, Media Bureau, at (202) 418-0596 or Andrew.Manley@fcc.gov.

SUPPLEMENTARY INFORMATION: The proposed rule was published at 86 FR 22126 on April 27, 2021. The Petitioner filed comments in support of the petition reaffirming its commitment to apply for channel 28. No other comments were filed. The Petitioner states that VHF channels have certain propagation characteristics which may cause reception issues for some viewers. In addition, KVAL has received numerous complaints from viewers unable to receive the Station's over-the-air signal, despite being able to receive signals from other stations. The Petitioner also demonstrated that while the noise limited contour of the proposed channel 28 facility does not completely encompass the licensed channel 13 contour, KVAL is a CBS affiliate and there are three other CBS affiliated stations that, together, overlap all areas where the channel 28 noise limited contour does not extend beyond the channel 13 noise limited contour, except in a small geographic area with no population. Thus, there is no loss of CBS network service.

This is a synopsis of the Commission's Report and Order, MB Docket No. 21-151; RM-11898; DA 21-767, adopted July 2, 2021, and released July 2, 2021. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.622(i), amend the Post-Transition Table of DTV Allotments, under Oregon, by revising the entry for Eugene to read as follows:

§ 73.622 Digital television table of allotments.

* * * * *

(i) * * *

Community | Channel No.
* * * * *
OREGON
* * * * *
Eugene | 9, 17, 28, * 29, 31.
* * * * *

[FR Doc. 2021-15691 Filed 7-22-21; 8:45 am]

BILLING CODE 6712-01-P